ENVIRONMENTAL PROTECTION AGENCY

[ER-FRL-9019-3]

Environmental Impact Statements; Notice of Availability

AGENCY: Office of Federal Activities, General Information (202) 564-7146 or http://www.epa.gov/compliance/nepa/.

Weekly receipt of Environmental Impact Statements Filed 01/19/2015 Through 01/23/2015 Pursuant to 40 CFR 1506.9.

Notice

Section 309(a) of the Clean Air Act requires that EPA make public its comments on EISs issued by other Federal agencies. EPA's comment letters on EISs are available at: http://www.epa.gov/compliance/nepa/eisdata.html.

EIS No. 20150019, Draft EIS, USACE, NC, Town of Ocean Isle Beach Shoreline Management Project, Comment Period Ends: 03/09/2015, Contact: Tyler Crumbley 910-251-4170

EIS No. 20150020, Draft EIS, NOAA, 00, PROGRAMMATIC—Habitat Restoration Activities Implemented throughout the Coastal United States, Comment Period Ends: 03/20/2015, Contact: Frederick Sutter 301-427-8600

EIS No. 20150021, Final EIS, NMFS, 00, Recreational Red Snapper Sector Separation, Amendment 40 to the Fishery Management Plan for the Reef Fish Resources of the Gulf of Mexico, Review Period Ends: 03/02/2015, Contact: Roy Crabtree 727-824-5301

EIS No. 20150022, Draft Supplement, BOEM, 00, Gulf of Mexico Outer Continental Shelf (OCS) Oil and Gas Lease Sales 2016 and 2017, Central Planning Area Lease Sales 241 and 247; Eastern Planning Area Lease Sales 226, Comment Period Ends: 03/16/2015, Contact: Gary Goeke 504-736-3233

EIS No. 20150023, Final Supplement, USN, 00, Surveillance Towed Array Sensor System Low Frequency Active (SURTASS LFA) Sonar Systems, Review Period Ends: 03/02/2015, Contact: Cynthia Morgan 703-695-8266 EIS No. 20150024, Final EIS, FHWA, ME, I-395/Route 9 Transportation System, Review Period Ends: 03/02/2015, Contact: Mark Hasselmann 207-512-4913

EIS No. 20150025, Final EIS, FERC, 00, Algonquin Incremental Market Project, Review Period Ends: 03/02/2015, Contact: Maggie Suter 202-502-6463

EIS No. 20150026, Final Supplement, USFS, WY, Long Term Special Use Authorization for Wyoming Game and Fish Commission to Use National Forest System Lands for their Winter Elk Management Activities at Alkali Creek Feedground, Review Period Ends: 03/16/2015, Contact: Pam Bode 307-739-5513

Amended Notices

EIS No. 20140354, Draft EIS, USACE, FL, South Central Palm Beach Island Comprehensive Shoreline Stabilization Project, Comment Period Ends: 02/25/2015, Contact: Garett Lips 561-674-2421

Revision to FR Notice Published 12/12/2014; Extending Comment Period from 01/26/2015 to 2/25/2015

Dated: January 27, 2015.
Cliff Rader,
Director, NEPA Compliance Division, Office of Federal Activities.

[FR Doc. 2015-01802 Filed 1-29-15; 8:45 am]

BILLING CODE 6560-50-P